DEPARTMENT OF TRANSPORTATION

Federal Aviation Administration

14 CFR Part 39

[Docket No. FAA-2014-0652; Directorate Identifier 2014-NM-076-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A319 series airplanes; Model A320-211, -212, -214, -231, -232, and -233 airplanes; and Model A321 series airplanes. This proposed AD was prompted by reports of cracks that could be initiated at the waste water service panel area and the potable water service panel area. This proposed AD would require modification of the potable water service panel and waste water service panel, including doing applicable related investigative and corrective actions. We are proposing this AD to prevent any cracking at the waste water service panel area and the potable water service panel area, which could affect the structural integrity of the airplane.

DATES: We must receive comments on this proposed AD by November 17, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0652; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2014-0652; Directorate Identifier 2014-NM-076-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2014-0081, dated March 31, 2014 (referred to after this as the Mandatory Continuing Airworthiness Information, or “the MCAI”), to correct an unsafe condition for certain Airbus Model A319; Model A320-211, -212, -214, -231, -232, and -233; and Model A321 series airplanes. The MCAI states:

During the full scale fatigue test on A320-200, it has been noticed that, due to fatigue, cracks could be initiated at the waste water service panel area and the potable water service panel area.

This condition, if not detected and corrected, could affect the structural integrity of the aeroplane.

Prompted by these findings, ALS [airworthiness limitations section] Part 2 tasks have been introduced for the affected A320 family aeroplanes. Since those actions were taken, Airbus developed production mod 160055 and mod 160056 to embody reinforcements (cold working on certain rivet rows) of the potable water and waste water service panels, and published associated Airbus Service Bulletin (SB) A320-53-1272 (retrofit mod 153074) and SB A320-53-1267 (retrofit mod 153073) for in-service embodiment.

Following complementary Design Office studies, it appears that the Sharklet installations on certain aeroplanes have a significant impact on the aeroplane structure (particularly, A319 and A320 post-mod 160001, and A321 post-mod 160021), leading to different compliance times, depending on aeroplane configuration.

For the reasons described above, this [EASA] AD requires reinforcement of the potable water and waste water service panels. Accomplishment of these modifications cancels the need for the related ALS Part 2 Tasks.

The modification includes doing applicable related investigative and corrective actions. Related investigative actions include measuring the diameter of a hole of a fastener and a rotating probe inspection. Corrective actions include repairs. You may examine the MCAI in the AD docket on the Internet at http://www.regulations.gov by searching for and locating Docket No. FAA-2014-0652.

Relevant Service Information

Airbus has issued Service Bulletin A320-53-1267, Revision 01, dated October 2, 2013; and Service Bulletin A320-53-1272, Revision 02, dated May 19, 2014. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 851 airplanes of U.S. registry.

We also estimate that it would take about 25 work-hours per product to comply with the basic requirements of this proposed AD. The average labor rate is $85 per work-hour. Required parts would cost about $420 per product. Based on these figures, we estimate the cost of this proposed AD on U.S. operators to be $2,165,795, or $2,545 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2014-0652; Directorate Identifier 2014-NM-076-AD.

(a) Comments Due Date

We must receive comments by November 17, 2014.

(b) Affected ADs

None.

(c) Applicability

This AD applies to the airplanes identified in paragraphs (c)(1), (c)(2), and (c)(3) of this AD, certificated in any category, all manufacturer serial numbers, except those on which Airbus Modification 160055 or Airbus Modification 160056 has been embodied in production.

(1) Airbus Model A319-111, -112, -113, -114, -115, -131, -132, and -133 airplanes.

(2) Airbus Model A320-211, -212, -214, -231, -232, and -233 airplanes.

(3) Airbus Model A321-111, -112, -131, -211, -212, -213, -231, and -232 airplanes.

(d) Subject

Air Transport Association (ATA) of America Code 53, Fuselage.

(e) Reason

This AD was prompted by reports of cracks that could be initiated at the waste water service panel area and the potable water service panel area. We are issuing this AD to prevent any cracking at the waste water service panel area and the potable water service panel area, which could affect the structural integrity of the airplane.

(f) Compliance

Comply with this AD within the compliance times specified, unless already done.

(g) Modification

(1) Within the compliance time specified in paragraphs (g)(1)(i), (g)(1)(ii), (g)(1)(iii), (g)(1)(iv), and (g)(1)(v) of this AD, as applicable, modify the potable water service panel, including doing all applicable related investigative and corrective actions, in accordance with the Accomplishment Instructions of Airbus Service Bulletin A320-53-1272, Revision 02, dated May 19, 2014, except where Airbus Service Bulletin A320-53-1272, Revision 02, dated May 19, 2014, specifies to contact Airbus, repair before further flight using a method approved by the Manager, International Branch, ANM-116, Transport Airplane Directorate, FAA; or the European Aviation Safety Agency (EASA); or Airbus's EASA Design Organization Approval (DOA). Do all applicable related investigative and corrective actions within the compliance time identified in paragraphs (g)(1)(i), (g)(1)(ii), (g)(1)(iii), (g)(1)(iv), and (g)(1)(v) of this AD.

(i) For Model A319 airplanes pre-modification 160001: Within 48,500 flight cycles or 97,000 flight hours, whichever occurs first since the airplane's first flight.

(ii) For Model A319 airplanes post-modification 160001: Within 46,000 flight cycles or 92,000 flight hours, whichever occurs first since the airplane's first flight.

(iii) For Model A320 airplanes pre-modification 160001: Within 54,200 flight cycles or 108,400 flight hours, whichever occurs first since the airplane's first flight.

(iv) For Model A320 airplanes post-modification 160001: Within 36,000 flight cycles or 72,000 flight hours, whichever occurs first since the airplane's first flight.

(v) For Model A321 airplanes: Within 60,000 flight cycles or 120,000 flight hours, whichever occurs first since the airplane's first flight.

(2) Within the compliance time specified in paragraphs (g)(2)(i), (g)(2)(ii), (g)(2)(iii), (g)(2)(iv), (g)(2)(v), and (g)(2(vi) of this AD, as applicable, modify the waste water service panel, including doing all applicable related investigative and corrective actions, in accordance with the Accomplishment Instructions of Airbus Service Bulletin A320-53-1267, Revision 01, dated October 2, 2013, except where Airbus Service Bulletin A320-53-1267, Revision 01, dated October 2, 2013, specifies to contact Airbus, repair before further flight using a method approved by the Manager, International Branch, ANM-116, Transport Airplane Directorate, FAA; or the EASA; or Airbus's EASA DOA. Do all applicable related investigative and corrective actions within the compliance time identified in paragraphs (g)(2)(i), (g)(2)(ii), (g)(2)(iii), (g)(2)(iv), and (g)(2)(v) of this AD.

(i) For Airbus A319 airplanes pre-modification 160001: Within 44,400 flight cycles or 88,800 flight hours, whichever occurs first since the airplane's first flight.

(ii) For Airbus A319 airplanes post-modification 160001: Within 43,600 flight cycles or 87,200 flight hours, whichever occurs first since the airplane's first flight.

(iii) For Airbus A320 airplanes pre-modification 160001, within the compliance times identified in paragraph (g)(2)(iii)(A) or (g)(2)(iii)(B) of this AD, whichever occurs later:

(A) Within 46,400 flight cycles or 92,800 flight hours, whichever occurs first since the airplane's first flight.

(B) Within 2,300 flight cycles or 4,600 flight hours, whichever occurs first since last accomplishment of Airworthiness Limitation Section (ALS) Part 2 Task No. 534126-01-3 without exceeding 48,000 flight cycles or 96,000 flight hours, whichever occurs first since the airplane's first flight.

(iv) For Airbus A320 airplanes post-modification 160001: Within 39,200 flight cycles or 78,400 flight hours, whichever occurs first since the airplane's first flight.

(v) For Airbus A321 airplanes pre-modification 160021: Within 51,600 flight cycles or 103,200 flight hours, whichever occurs first since the airplane's first flight.

(vi) For Airbus A321 airplanes post-modification 160021: Within 51,200 flight cycles or 102,400 flight hours, whichever occurs first since the airplane's first flight.

(h) Corrective Action

For Airbus A320 airplanes having pre-modification 160001, that have exceeded 46,400 flight cycles or 92,800 flight hours, whichever occurred first since the airplane's first flight: If any crack is found during accomplishment of ALS Part 2 Task 534126-01-3 done, before further flight, repair using a method approved by the Manager, International Branch, ANM-116, Transport Airplane Directorate, FAA; or the EASA; or Airbus's EASA DOA.

(i) Terminating Action for ALS Task

(1) Modification of an airplane as required by paragraph (g)(1) of this AD, terminates the requirement for the ALS Part 2 Task for that airplane as identified in paragraphs (i)(1)(i), (i)(1)(ii), (i)(1)(iii), (i)(1)(iv), (i)(1)(v), and (i)(1)(vi) of this AD, as applicable.

(i) For Airbus A319 airplanes pre-modification 160001: ALS Part 2 Task No. 534125-01-2.

(ii) For Airbus A319 airplanes post-modification 160001: ALS Part 2 Task No. 534125-01-5.

(iii) For Airbus A320 airplanes pre-modification 160001: ALS Part 2 Task No. 534125-01-3.

(iv) For Airbus A320 airplanes post-modification 160001: ALS Part 2 Task No. 534125-01-6.

(v) For Airbus A321 airplanes pre-modification 160021: ALS Part 2 Task No. 534125-01-4.

(vi) For Airbus A321 airplanes post-modification 160021: ALS Part 2 Task No. 534125-01-7.

(2) Modification of an airplane as required by paragraphs (g)(2) and (g)(3) of this AD, terminates the requirement for the ALS Part 2 task for that airplane as identified in paragraphs (i)(2)(i), (i)(2)(ii), (i)(2)(iii), (i)(2)(iv), (i)(2)(v), and (i)(2)(vi) of this AD, as applicable.

(i) For Airbus A319 airplanes pre-modification 160001: ALS Part 2 Task No. 534126-01-2.

(ii) For Airbus A319 airplanes post-modification 160001: ALS Part 2 Task No. 534126-01-5.

(iii) For Airbus A320 airplanes pre-modification 160001: ALS Part 2 Task No. 534126-01-3.

(iv) For Airbus A320 airplanes post-modification 160001: ALS Part 2 Task No. 534126-01-6.

(v) For Airbus A321 airplanes pre-modification 160021: ALS Part 2 Task No. 534126-01-4.

(vi) For Airbus A321 airplanes post-modification 160021: ALS Part 2 Task No. 534126-01-7.

(j) Credit for Previous Actions

(1) This paragraph provides credit for actions required by paragraph (g)(1) of this AD, if those actions were performed before the effective date of this AD using Airbus Service Bulletin A320-53-1272, dated January 10, 2013; and Airbus Service Bulletin A320-53-1272, Revision 01, dated August 6, 2013; which are not incorporated by reference in this AD.

(2) This paragraph provides credit for actions required by paragraph (g)(2) of this AD, if those actions were performed before the effective date of this AD using Airbus Service Bulletin A320-53-1267, dated June 24, 2013, which is not incorporated by reference in this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(l) Related Information

(1) Refer to Mandatory Continuing Airworthiness Information (MCAI) EASA Airworthiness Directive 2014-0081, dated March 31, 2014, for related information. This MCAI may be found in the AD docket on the Internet at http://www.regulations.gov by searching for and locating Docket No. FAA-2014-0652.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on September 20, 2014.
Michael Kaszycki,
Acting Manager, Transport Airplane Directorate, Aircraft Certification Service.

[FR Doc. 2014-23366 Filed 9-30-14; 8:45 am]

BILLING CODE 4910-13-P